DEPARTMENT OF TRANSPORTATION

Federal Aviation Administration

14 CFR Part 39

[Docket No. 99-NM-254-AD; Amendment 39-11554; AD 2000-02-36]

RIN 2120-AA64

Airworthiness Directives; Airbus Model A319, A320, and A321 Series Airplanes

AGENCY: Federal Aviation Administration, DOT.

ACTION: Final rule.

SUMMARY: This amendment supersedes an existing airworthiness directive (AD), applicable to certain Airbus Model A319, A320, and A321 series airplanes, that currently requires relocation of the engine/master 1 relay from relay box 103VU to shelf 95VU in the avionics bay. This amendment continues to require the relocation using new electrical contacts, and, for certain airplanes, adds a requirement to replace certain contacts installed in shelf 95VU during relocation of the relay with new contacts. This amendment is prompted by issuance of mandatory continuing airworthiness information by a foreign civil airworthiness authority. The actions specified by this AD are intended to prevent a simultaneous cutoff of the fuel supply to both engines, which could result in a loss of engine power and consequent reduced controllability of the airplane.

DATES: Effective March 13, 2000.

The incorporation by reference of certain publications listed in the regulations is approved by the Director of the Federal Register as of March 13, 2000.

The incorporation by reference of certain other publications, as listed in the regulations, was approved previously by the Director of the Federal Register as of October 27, 1998 (63 FR 50492, September 22, 1998).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 98-20-10, amendment 39-10777 (63 FR 50492, September 22, 1998), which is applicable to certain Airbus Model A319, A320, and A321 series airplanes, was published in the Federal Register on October 21, 1999 (64 FR 56715). The action proposed to continue to require relocation of the engine/master 1 relay from relay box 103VU to shelf 95VU in the avionics bay using new electrical contacts. The action also proposed to add, for certain airplanes, a requirement to replace certain contacts installed in shelf 95VU during relocation of the relay with new contacts.

Comments

Interested persons have been afforded an opportunity to participate in the making of this amendment. Due consideration has been given to the comments received.

Support for the Proposal

One commenter supports the proposed rule.

Request to Revise Cost Estimate

One commenter concurs with the content of the proposed rule, but states that the estimate of work hours required to accomplish the replacement of the contacts is inaccurate in the proposed AD. The commenter states that for airplanes previously modified in accordance with Airbus Service Bulletin A320-24-1092, Revision 01, dated December 24, 1997, or Revision 02, dated March 9, 1998, the replacement of contacts would take approximately 12 hours. For airplanes already in the process of being modified, the replacement would take approximately 3 hours.

The FAA infers that the commenter's estimate includes work hours for access and close to replace certain contacts with new contacts for previously modified airplanes. However, the cost impact information, below, describes only the “direct” costs of the specific actions required by this AD. The number of work hours necessary to accomplish the required actions, specified as 2 hours in the cost impact information, was provided to the FAA by the manufacturer. This number represents the time necessary to perform only the actions actually required by this AD. The FAA recognizes that, in accomplishing the requirements of any AD, operators may incur “incidental” costs in addition to the “direct” costs. The cost analysis in AD rulemaking actions, however, typically does not include incidental costs, such as the time required to gain access and close up, planning time, or time necessitated by other administrative actions. No change to the final rule is necessary.

Conclusion

After careful review of the available data, including the comments noted above, the FAA has determined that air safety and the public interest require the adoption of the rule as proposed.

Cost Impact

There are approximately 120 airplanes of U.S. registry that will be affected by this AD.

The modification that is currently required by AD 98-20-10 takes approximately 61 work hours per airplane to accomplish, at an average labor rate of $60 per work hour. Required parts cost approximately $209 or $961 per airplane, depending on the modification kit purchased. Based on these figures, the cost impact of the previously required actions on U.S. operators is estimated to be as low as $3,869 per airplane, or as high as $4,621 per airplane.

Should an operator be required to accomplish the replacement of certain contacts that is required in this AD action, it will take approximately 2 work hours per airplane to accomplish, at an average labor rate of $60 per work hour. Required parts will be supplied by the manufacturer at no cost to the operators. Based on these figures, the cost impact of the required replacement on U.S. operators is estimated to be $120 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption “ADDRESSES.”

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10777 (63 FR 50492, September 22, 1998), and by adding a new airworthiness directive (AD), amendment 39-11554, to read as follows:

2000-02-36 Airbus Industrie: Amendment 39-11554. Docket 99-NM-254-AD. Supersedes AD 98-20-10, Amendment 39-10777.

Applicability: Model A319, A320, and A321 series airplanes; as listed in Airbus Service Bulletin A320-24-1092, Revision 03, dated September 16, 1998; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent a simultaneous cutoff of the fuel supply to both engines, which could result in a loss of engine power and consequent reduced controllability of the airplane, accomplish the following:

Modification

(a) Within 18 months after October 27, 1998 (the effective date of AD 98-20-10, amendment 39-10777), relocate the engine/master 1 relay (11QG) from relay box 103VU to shelf 95VU in the avionics bay, in accordance with Airbus Service Bulletin A320-24-1092, dated March 26, 1997; Revision 01, dated December 24, 1997; Revision 02, dated March 9, 1998; or Revision 03, dated September 16, 1998. After the effective date of this AD, only Revision 03 shall be used.

(b) For airplanes on which Airbus Service Bulletin A320-24-1092, dated March 26, 1997; Revision 01, dated December 24, 1997; or Revision 02, dated March 9, 1998; has been accomplished prior to the effective date of this AD: Within 500 flight hours after the effective date of this AD, replace the contacts on lines 20 through 23 in shelf 95VU with new contacts, in accordance with paragraph B.(2)(m) of the Accomplishment Instructions of Airbus Service Bulletin A320-24-1092, Revision 03, dated September 16, 1998.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Airbus Service Bulletin A320-24-1092, dated March 26, 1997; Airbus Service Bulletin A320-24-1092, Revision 01, dated December 24, 1997; Airbus Service Bulletin A320-24-1092, Revision 02, dated March 9, 1998; or Airbus Service Bulletin A320-24-1092, Revision 03, dated September 16, 1998; as applicable.

(1) The incorporation by reference of Airbus Service Bulletin A320-24-1092, Revision 03, dated September 16, 1998, is approved by the Director of the Federal Register in accordance with 5 U.S.C. 552(a) and 1 CFR part 51.

(2) The incorporation by reference of Airbus Service Bulletin A320-24-1092, dated March 26, 1997; Airbus Service Bulletin A320-24-1092, Revision 01, dated December 24, 1997; and Airbus Service Bulletin A320-24-1092, Revision 02, dated March 9, 1998, was approved previously by the Director of the Federal Registeras of October 27, 1998 (63 FR 50492, September 22, 1998).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 1999-263-134(B), dated June 30, 1999.

(f) This amendment becomes effective on March 13, 2000.

Issued in Renton, Washington, on January 28, 2000.
Donald L. Riggin,
Acting Manager, Transport Airplane Directorate, Aircraft Certification Service.

[FR Doc. 00-2403 Filed 2-4-00; 8:45 am]

BILLING CODE 4910-13-P